DEPARTMENT OF ENERGY

Office of Energy Efficiency and Renewable Energy

Wind and Water Power Program

AGENCY: Office of Energy Efficiency and Renewable Energy, Department of Energy.

ACTION: Notice of public meeting.

SUMMARY: Programs with the U.S. Department of Energy's (DOE) Office of Energy Efficiency and Renewable Energy (EERE) are required to undertake rigorous, objective peer review of their funded projects in order to ensure and enhance the management, relevance, effectiveness, and productivity of those projects. The 2012 Wind and Water Power Program, Wind Power Peer Review Meeting will review wind technology development and market acceleration and deployment projects from the Program's research and development portfolio. The 2012 Wind Power Peer Review Meeting will be held June 19 through June 21, 2012, in Alexandria, VA.

DATES: DOE will hold a public meeting on Tuesday, June 19, 2012, from 8:30 a.m. to 5:30 p.m.; Wednesday, June 20, 2012, from 8:30 a.m. to 5:30 p.m.; and Thursday, June 21, 2012, from 8:30 a.m. to 5:30 p.m. in Alexandria, VA. RSVP is required by June 1, 2012.

ADDRESSES: The public meeting will be held at the Hilton Alexandria Mark Center, 500 Seminary Road, Alexandria, VA 22311.

FOR FURTHER INFORMATION CONTACT: Mr. Mark Higgins, Office of Energy Efficiency and Renewable Energy, U.S. Department of Energy, 1000 Independence Avenue SW., Washington, DC 20585. Telephone: (202) 287-5213. Email: mark.higgins@ee.doe.gov.

SUPPLEMENTARY INFORMATION: The purpose of this meeting is to:

• Review and evaluate the progress and accomplishments of the Wind and Water Power Program's wind technology development and market acceleration and deployment research projects funded in FY2010 through FY2012;

• Foster interactions among the national laboratories, industry, and academic institutions conducting research and development on behalf of the Program; and

• Review and evaluate the strategy and goals of the Wind Power Program;

Participants should limit information and comments to those based on personal experience, individual advice, information, or facts regarding this topic. It is not the object of this session to obtain any group position or consensus. Rather, this meeting is an opportunity for the peer reviewers to gain an individual understanding of the research and projects. To most effectively use the limited time, please refrain from passing judgment on another participant's recommendations or advice, and instead, concentrate on your individual experiences. Based upon the review of individual projects and the overall Wind Power Program research portfolio, a report will be compiled by DOE, which will be publically posted on the DOE Wind and Water Power Program Web site.

Public Participation: Principal Investigators, subject matter reviewers, Wind Power Program staff, and contract support staff will be in attendance. The event is open to the public based on space availability. Participants are encouraged to pre-register. Limited time for questions and answers are included for each project. Additionally, questions and/or comments may be submitted in writing during or after the meeting. Questions and comments should be directed to Mr. Mark Higgins via email at mark.higgins@ee.doe.gov or by telephone at (202) 287-5213.

Pre-Registration: To pre-register, please contact Ms. Stacey Young via email at Stacey_Young@sra.com or by telephone at 202-554-8480 Ext. 2924. Participants interested in attending should indicate the category or categories (technology development or market acceleration and deployment) you would like to observe, your name, company name or organization (if applicable), telephone number, and email no later than the close of business on Friday, June 1, 2012. All Principal Investigators required to present at the meeting must pre-register. Additionally, all subject matter reviewers, Program staff, and support contract staff must pre-register.

Agenda: Presentations from industry, academia, and national laboratories will be time limited. Depending on the type of project, Principal Investigators will have anywhere from 15 to 60 minutes to present. Time is also allotted for question and answer sessions between the Principal Investigators and the subject matter reviewers.

Information on Services for Individuals with Disabilities: Individuals requiring special accommodations at the meeting, please contact Ms. Young no later than the close of business on June 1, 2012.

Minutes: A summary report of the meeting will be available for public review and printing at the DOE Wind Program Online Publication and Product Library at: wind.energy.gov/publications.html.

Issued in Washington, DC on May 24, 2012.
Mark Higgins,
Wind and Water Power Acting Program Manager, Office of Energy Efficiency and Renewable Energy.

[FR Doc. 2012-13102 Filed 5-29-12; 8:45 am]

BILLING CODE 6450-01-P